FEDERAL COMMUNICATIONS COMMISSION

[Report No. 2850]

Petitions for Reconsideration of Action in Rulemaking Proceeding

February 12, 2008.

Petitions for Reconsideration have been filed in the Commission's Rulemaking proceeding listed in this Public Notice and published pursuant to 47 CFR Section 1.429(e). The full text of these documents is available for viewing and copying in Room CY-B402, 445 12th Street, SW., Washington, DC or may be purchased from the Commission's copy contractor, Best Copy and Printing, Inc. (BCPI) (1-800-378-3160). Oppositions to these petitions must be filed by March 6, 2008. See Section 1.4(b)(1) of the Commission's rules (47 CFR 1.4(b)(1). Replies to oppositions must be filed within 10 days after the time for filing oppositions have expired.

Subject: In the Matter of Exclusive Service Contracts for Provision of Video Services in Multiple Dwelling Units and Other Real Estate Developments (MB Docket No. 07-51).

Number of Petitions Filed: 1.

Subject: In the Matter of Implementation of the Cable Television Consumer Protection and Competition Act of 1992 (MB Docket No. 07-29).

Development of Competition and Diversity in Video Programming Distribution: Section 628(c)(5) of the Communications Act.

Sunset of Exclusive Contract Prohibition.

Number of Petitions Filed: 1.

Marlene H. Dortch,
Deputy Secretary.

[FR Doc. E8-3137 Filed 2-19-08; 8:45 am]

BILLING CODE 6712-01-P